DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “Implementation of TeamSTEPPS in Primary Care Settings (ITS-PC).”

DATES: Comments on this notice must be received by July 5, 2017.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by emails at doris.lefkowitz@AHRQ.hhs.gov.

SUPPLEMENTARY INFORMATION:

Proposed Project

“Implementation of TeamSTEPPS in Primary Care Settings (ITS-PC)”

In accordance with the Paperwork Reduction Act, 44 U.S.C. 3501-3521, AHRQ invites the public the comment on this proposed information collection. As part of its effort to fulfill its mission goals, AHRQ, in collaboration with the Department of Defense's (DoD) Tricare Management Activity, developed TeamSTEPPS® (Team Strategies and Tools for Enhancing Performance and Patient Safety) to provide an evidence-based suite of tools and strategies for training teamwork-based patient safety to health care professionals. TeamSTEPPS includes multiple toolkits which are all tied to, or are variants of, the core curriculum. In addition to the core curriculum, TeamSTEPPS resources have been developed for primary care, rapid response systems, long-term care, and patients with limited English proficiency.

The main objective of the TeamSTEPPS program is to improve patient safety by training health care staff in various teamwork, communication, and patient safety concepts, tools, and techniques and ultimately helping to build national capacity for supporting teamwork-based patient safety efforts in health care organizations.

Created in 2007, AHRQ's National Implementation Program has trainedMaster Trainers who have stimulated the use and adoption of TeamSTEPPS in health care delivery systems. These individuals were trained using the TeamSTEPPS core curriculum at regional training centers across the U.S. AHRQ has also provided technical assistance and consultation on implementing TeamSTEPPS and has developed user networks, various educational venues and other channels of learning for continued support and the improvement of teamwork in health care. Since the inception of the National Implementation Program, AHRQ has trained more than 8,000 participants to serve as TeamSTEPPS Master Trainers.

Given the success of the National Implementation Program, AHRQ launched an effort to provide TeamSTEPPS training to primary care health professionals using the TeamSTEPPS in Primary Care version of the curriculum, which is now referred to as “TeamSTEPPS for Office-Based Care.”

Most of the participants in the current National Implementation Program's training come from hospital settings, because the TeamSTEPPS core curriculum is most aligned with that context. Under this new initiative, primary care practice facilitators will be trained through online instruction. Upon completion of the course, these individuals will be Master Trainers who will train the staff at primary care practices and implement or support the implementation of TeamSTEPPS tools and strategies in primary care practices.

As part of this initiative, AHRQ seeks to conduct an evaluation of the TeamSTEPPS for Office-Based Care training program. This evaluation seeks to understand the effectiveness of the TeamSTEPPS for Office-Based Care training and how trained practice facilitators implement TeamSTEPPS in primary care practices.

This research has the following goals:

(1) Conduct a formative assessment of the TeamSTEPPS for Office-Based Care training program to determine what revisions and improvement should be made to the training and how it is delivered, and

(2) Identify how trained participants use and implement the TeamSTEPPS tools and resources in primary care settings.

This study is being conducted by AHRQ through its contractor, the Health Research & Educational Trust and its subcontractor, IMPAQ International, pursuant to AHRQ's statutory authority to conduct and support research on health care and on systems for the delivery of such care, including activities with respect to the quality, effectiveness, efficiency, appropriateness and value of health care services and with respect to quality measurement and improvement. 42 U.S.C. 299a(a)(1) and (2).

Method of Collection

This is a continuation of data collection for the purpose of conducting an evaluation of the TeamSTEPPS for Office-Based Care training program. The evaluation is formative in nature as AHRQ seeks information to improve the delivery of the online training.

To conduct the evaluation, the TeamSTEPPS for Office-Based Care Post-Training Survey will be administered to all individuals who complete the TeamSTEPPS for Office-Based Care training six months after training. The TeamSTEPPS for Office-Based Care Post-Training Survey will be administered via the Web to participants.

In order to reduce respondent burden, the training participant questionnaire will be administered via the Web. Participant information acquired by HRET and its partner Reingold, Inc. when participants enroll in the TeamSTEPPS for Office-Based Care training program will be used to develop the distribution lists. Each potential respondent will receive up to five email communications to encourage participation (i.e., an advance notice of the questionnaire, an initial invitation to complete the questionnaire, and three follow-up emails to remind respondents to complete the questionnaire).

Using an online system for data collection, rather than administering a paper-based questionnaire, will make completing and submitting the questionnaire less time-consuming for respondents. Any skip patterns included in the questionnaire (i.e., questions that are appropriate only for a subset of the respondents) will be automatically programmed into the Web-based form of the questionnaire, thereby eliminating any confusion during questionnaire completion. In addition, the contractors can also ensure that important items are not inadvertently skipped or ignored by setting software requirements to ensure proper completion of questionnaires based on specific respondent selections.

Estimated Annual Respondent Burden

Exhibit 1 shows the estimated annualized burden hours for the respondent's time to participate in the study. The TeamSTEPPS for Office-Based Care Post-Training Survey will be completed by approximately 600 individuals per year. We estimate that each respondent will require 20 minutes to complete the survey. The total annualized burden is estimated to be 200 hours.

Exhibit 2 shows the estimated annualized cost burden based on the respondents' time to participate in the study. The total cost burden is estimated to be $24,944.

Exhibit 1—Estimated Annualized Burden Hours
Form name | Number of respondents | Number of responses per respondent | Hours per response | Total burden hours
TeamSTEPPS for Office-Based Care Post-Training Survey | 600 | 1 | 20/60 | 200
Total | 600 | NA | NA | 200

Exhibit 2—Estimated Annualized Cost Burden
Form name | Number of respondents | Total burden hours | Average hourly wage rate * | Total cost burden
TeamSTEPPS for Office-Based Care Post-training Survey | 600 | 200 | $96.54 | $19,308
Total | 600 | 200 | 96.54 | 19,308
* Based on the mean hourly wage for Family and General Practitioners (29-1062) presented in the National Compensation Survey: Occupational Wages in the United States, May 2016, U.S. Department of Labor, Bureau of Labor Statistics (https://www.bls.gov/oes/current/oes_nat.htm).

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Sharon B. Arnold,
Acting Director.

[FR Doc. 2017-09089 Filed 5-4-17; 8:45 am]

BILLING CODE 4160-90-P